DEPARTMENT OF LABOR

Employment and Training Administration

[TA-W-39,068]

Elizabeth Webbing, Inc. Central Falls, RI; Notice of Revised Determination on Reconsideration

On November 13, 2001, the Department issued an Affirmative Determination Regarding Application on Reconsideration applicable to workers and former workers of the subject firm. The notice was published in the Federal Register on December 5, 2001 (66 FR 63263).

On June 25, 2001 the Department initially denied TAA to workers of Elizabeth Webbing, Inc., Central Falls, Rhode Island producing nylon and polyester webbing because the “contributed importantly” group eligibility requirement of section 222 of the Trade Act of 1974, as amended, was not met.

On reconsideration, the department surveyed additional customers of the subject plant regarding their purchases of nylon and polyester webbing during the relevant period. The survey revealed that customers increased their imports of nylon and polyester webbing, while decreasing their purchases from the subject plant during the relevant period.

Conclusion

After careful review of the additional facts obtained on reconsideration, I conclude that increased imports of articles like or directly competitive with nylon and polyester webbing, contributed importantly to the declines in sales or production and to the total or partial separation of workers of Elizabeth Webbing, Inc., Central Falls, Rhode Island. In accordance with the provisions of the Act, I make the following certification:

All workers of Elizabeth Webbing, Inc., Central Falls, Rhode Island who became totally or partially separated from employment on or after April 9, 2000 through two years of this certification, are eligible to apply for adjustment assistance under section 223 of the Trade Act of 1974.

Signed in Washington, DC this 12th day of December 2001.
Edward A. Tomchick,
Director, Division of Trade Adjustment Assistance.

[FR Doc. 01-31623 Filed 12-21-01; 8:45 am]

BILLING CODE 4510-30-M